DEPARTMENT OF COMMERCE

National Oceanic and Atmospheric Administration

15 CFR Part 902

50 CFR Part 648

Docket No. 021122284-3056-03 ; I.D. 110602A]

RIN 0648-AQ30

Fisheries of the Northeastern United States; Scup Fishery; Gear Restricted Area (GRA) Exemption Program

AGENCY: National Marine Fisheries Service (NMFS), National Oceanic and Atmospheric Administration (NOAA), Commerce.

ACTION: Final rule; technical amendment.

SUMMARY: NMFS announces the approval by the Office of Management and Budget (OMB) and effectiveness of a collection-of-information requirement for a GRA Exemption Program, whereby interested participants must contact NMFS to request authorization to participate in the program. This final rule also codifies the OMB control number. The intent of this final rule is to inform the public of the effectiveness of the collection-of-information requirements and publish its related OMB control number.

DATES: Effective March 18, 2003.

ADDRESSES: Any comments regarding burden-hour estimates for collection-of-information requirements contained in this final rule should be sent to Patricia Kurkul, Regional Director, Northeast Regional Office, NMFS, One Blackburn Drive, Gloucester, MA 01930, and to the Office of Information and Regulatory Affairs, Office of Management and Budget, Washington, DC 20503 (ATTN: NOAA Desk Officer).

FOR FURTHER INFORMATION CONTACT: Sarah McLaughlin, Fishery Policy Analyst, (978) 281-9279, fax (978) 281-9135, e-mail sarah.mclaughlin@noaa.gov.

SUPPLEMENTARY INFORMATION: On January 2, 2003 (68 FR 60), NMFS published a final rule that promulgated a regulatory amendment, under the Summer Flounder, Scup, and Black Sea Bass Fishery Management Plan (FMP), codifying requirements of the GRA Exemption Program. Section 648.122(d) of that final rule contains a collection-of-information requirement for any vessel that is subject to the provisions of the Southern and Northern GRAs. Such vessel must telephone the NMFS Northeast Region Permits Office (at 978-281-9370) if any portion of a trip will be in a GRA, to request a Scup GRA Exemption Program Authorization. Delayed effectiveness of §§ 648.14(a)(122), 648.14(a)(127), 648.122(a), 648.122(b), and 648.122(d) was announced in the January 2, 2003, final rule, pending OMB approval of the program enrollment procedures. On February 6, 2003, OMB approved the collection-of-information requirement under OMB control number 0648-0469.

NOAA codifies its OMB control numbers for information collection at 15 CFR part 902. Part 902 collects and displays the control numbers assigned to information collection requirements of NOAA by OMB pursuant to the Paperwork Reduction Act (PRA). This final rule codifies OMB control number 0648-0469 for §§ 648.14(a)(122), 648.14(a)(127), 648.122(a), 648.122(b), and 648.122(d). Under NOAA Administrative Order 205-11, dated December 17, 1990, the Under Secretary for Oceans and Atmosphere, NOAA has delegated to the AA the authority to sign material for publication in the Federal Register.

Classification

This rule has been determined to be not significant for the purposes of Executive Order 12866.

The Assistant Administrator for Fisheries, NOAA (AA) finds, pursuant to 5 U.S.C. 553(b)(B) that it is unnecessary to provide for prior notice and opportunity for public comment because this is a non-discretionary, non-substantive administrative provision, which merely announces an OMB control number. This rule codifies the approvals (i.e., control numbers) by OMB for collection of information requirements in §§ 648.14(a)(122), 648.14(a)(127), 648.122(a), 648.122(b), and 648.122(d). Accordingly, good cause exists to waive notice and comment. Furthermore, because this is a non-substantive rule, pursuant to 5 U.S.C. 553(d), this final rule is not subject to the 30-day delay in effectiveness.

Notwithstanding any other provision of the law, no person is required to respond to, nor shall any person be subject to a penalty for failure to comply with, a collection of information subject to the requirements of the PRA, unless that collection of information displays a currently valid OMB control number.

The public reporting burden for this collection of information is estimated to average approximately 2 minutes per vessel (twice a year). The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

List of Subjects

15 CFR Part 902

Reporting and recordkeeping requirements.

50 CFR Part 648

Fisheries, Fishing, Reporting and recordkeeping requirements.

Dated: March 12, 2003.
William T. Hogarth,
Assistant Administrator for Fisheries, National Marine Fisheries Service.

For the reasons set out in the preamble, 15 CFR part 902, chapter IX is amended as follows:

PART 902—NOAA INFORMATION COLLECTION REQUIREMENTS UNDER THE PAPERWORK REDUCTION ACT: OMB CONTROL NUMBERS

1. The authority citation for part 902 continues to read as follows:

Authority: 44 U.S.C. 350 et seq.

2. In § 902.1, the table in paragraph (b) under 50 CFR is amended by adding new entries for 648.14 and 648.122, in numerical order, to read as follows:

§ 902.1 OMB Control numbers assigned pursuant to the Paperwork Reduction Act.

* * * * *

(b)* * *

CFR part or section where the information collection requirement is located | Current OMB control number (all numbers begin with 0648-)
* * * * * |  |
50 CFR |
* * * * *
648.14 | -0469
* * * * * |
648.122 | -0469
* * * * * |

[FR Doc. 03-6471 Filed 3-17-03; 8:45 am]

BILLING CODE 3510-22-S